DEPARTMENT OF HEALTH AND HUMAN SERVICES

[Document Identifier CMS-10321]

Emergency Clearance; Public Information Collection Requirements Submitted to the Office of Management and Budget (OMB)

AGENCY: Office of Consumer Information and Insurance Oversight, HHS.

In compliance with the requirement of section 3506(c)(2)(A) of the Paperwork Reduction Act of 1995, the Office of Consumer Information and Insurance Oversight (OCIIO), the U.S. Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. We are, however, requesting an emergency review of the information requested below. In compliance with the requirement of Section 3506(c)(2)(a) of the Paperwork Reduction Act of 1995, we have submitted to the Office of Management and Budget (OMB) the following requirements for emergency review. In accordance with 5 CFR 1320.13, we are requesting an emergency review to ensure compliance with an initiative of the Administration.

1. Type of Information Collection Request: Revision of a currently approved collection; Title of Information Collection: Early Retiree Reinsurance Program; Use: Under the Section 1102 of the Affordable Care Act and implementing regulations at 45 CFR Part 149, employment-based plans that offer health benefits to early retirees and their spouses, surviving spouses and dependents are eligible under a temporary program to receive a tax-free reimbursement for the costs of certain health benefits for such individuals. In order to qualify, plan sponsors must submit a complete application to the HHS. In order to receive reimbursement under the program, they must also submit documentation of actual costs for health care benefits, which consists of documentation of actual costs for the items and services involved, and a list of individuals to whom the documentation applies. Once HHS reviews and analyzes the information on the application, notification will be sent to the plan sponsor about its eligibility to participate in the program. Once HHS reviews and analyzes each reimbursement request, reimbursement under the program will be made to the sponsor, as appropriate. Form Number: CMS-10321 (OMB-0938-1087); Frequency: Occasionally; Affected Public: Private Sector: Business or other for-profits and Not-for-profit institutions; State, Local, or Tribal Governments; Number of Respondents: 13,200; Number of Responses: 71,330; Total Annual Hours: 1,927,575. (For policy questions regarding this collection, contact Dave Mlawsky at (410) 786-6851. For all other issues call (410) 786-1326.)

OCIIO is requesting OMB approval by January 3, 2011, with a 180-day approval period. Written comments and recommendations will be considered from the public if received by the individuals designated below by January 3, 2011.

To obtain copies of the supporting statement and any related forms for the proposed paperwork collections references above, access CMS' Web site address at http://www.cms.hhs.gov/PaperworkReductionActof1995 or E-mail your request, including your address, phone number, OMB Number, and CMS document identifier to Paperwork@cms.hhs.gov, or call the Reports Clearance Office on (410) 786-1326.

Interested parties are invited to send comments regarding the burden or any other aspect of these collections of information requirements. To be assured consideration, comments and recommendations must be submitted in one of the following ways by January 3, 2011:

1. Electronically. You may submit your comments electronically to http://Regulations.gov. Follow the instructions for “Comment or Submission” or “More Search Options” to find the information collection document(s) accepting comments.

2. By regular mail. Office of Consumer Information and Insurance Oversight, Department of Health and Human Services, Attention: Paperwork Reduction Act, Room 445-G, Hubert H. Humphrey Building, 200 Independence Avenue, SW., Washington, DC 20201. Please allow sufficient time for mailed comments to be received before the close of the comment period. (Because access to the interior of the Hubert H. Humphrey Building is not readily available to persons without Federal government identification, commenters are encouraged to leave their comments in the OCIIO drop slots located in the main lobby of the building. A stamp-in clock is available for persons wishing to retain a proof of filing by stamping in and retaining an extra copy of the comments being filed.)

3. By facsimile or E-mail to OMB. OMB, Office of Information and Regulatory Affairs, Attention: CMS Desk Officer, Fax Number (202) 395-6974, E-mail: OIRA_submission@omb.eop.gov.

Dated: December 20, 2010.
Kenneth Cohen,
Director, Executive Secretariat & Regulatory Affairs, Office of Consumer Information and Insurance Oversight.

[FR Doc. 2010-32265 Filed 12-20-10; 4:15 pm]

BILLING CODE 4120-01-P